DEPARTMENT OF THE INTERIOR

Bureau of Land Management

[LLCAD08000.17XL1109AF. L12200000.EA0000.LXSSB0280000 ]

Closure of Public Lands for the 2017 King of the Hammers Race Event in San Bernardino County, CA

AGENCY: Bureau of Land Management, Interior.

ACTION: Notice.

SUMMARY: As authorized under the provisions of the Federal Land Policy and Management Act of 1976, as amended, the Bureau of Land Management (BLM) is giving notice that certain public lands located near Johnson Valley, California, within the Johnson Valley Off-Highway Vehicle Recreation Area, will be temporarily closed to all public use to provide for public safety during the 2017 King of the Hammers Race Event.

DATES: The closure will be in effect from February 3 through February 11, 2017.

FOR FURTHER INFORMATION CONTACT: Beth Ransel, District Manager, California Desert District, 22835 Calle San Juan De Los Lagos, Moreno Valley, CA 92553, telephone: 951-697-5200, email: bransel@blm.gov or Katrina Symons, Barstow Field Manager, 2601 Barstow Road, Barstow, CA 923111, telephone: 760-252-6004, email: ksymons@blm.gov. Persons who use a telecommunications device for the deaf (TDD) may call the Federal Relay Service at 1-800-877-8339 to contact the above individual during normal business hours. The Service is available 24 hours a day, seven days a week, to leave a message or question with the above individuals. You will receive a reply during normal hours.

SUPPLEMENTARY INFORMATION: This closure applies to all public use, including pedestrian use and vehicles. The public lands affected by this closure are described as follows:

Land Description

San Bernardino Meridian, California

T. 5 N., R. 2 E.,

Secs. 1 thru 4 and 10 thru 14.

T. 6 N., R. 2 E.,

Secs. 1, 12, 13, 14, 22 thru 27, 33, 34, and 35.

T. 4 N., R. 3 E.,

Sec. 1, lots 7, 12, 13, and 15, NW¼SW¼, and S½SE¼;

Sec. 2, lots 4 thru 11 and S½;

Sec. 12, N½ and SE¼.

T. 5 N., R. 3 E.,

Sec. 6, lots 1 thru 12, 14, 15, and 16, S½NE¼, SE¼NW¼, E½SW¼, and NW¼SE¼;

Sec. 7;

Sec. 8, lots 2, 3, 6, and 7, and SW¼SW¼;

Sec. 17, lots 3, 4, 7, and 8, W½NW¼, SE¼NW¼, and SW¼;

Secs. 18 and 19 both unsurveyed;

Sec. 20, lot 2, W½NE¼, SE¼NE¼, NW¼, and S½;

Sec. 21, lots 2, 4, 7, 9, 11, and 12, W½SW¼, SE¼SW¼, and SW¼SE¼;

Sec. 22, lot 2;

Sec. 27, lots 3, 4, 6, 9, and 10, SW¼NW¼, and SW¼;

Secs. 28 and 29;

Sec. 34, lots 2, 3, and 4, SW¼NE¼, W½, and SE¼;

Sec. 35, lots 1, 4, 6, 7, and 10, and SW¼SW¼.

T. 6 N., R. 3 E.,

Sec. 4, except that portion within MS 6716;

Secs. 5 thru 9, 17 thru 20, 29, and 30.

T. 7 N., R. 3 E.,

Secs. 30 and 31;

Sec. 32, except that portion within MS 6715;

Sec. 33, SW¼.

T. 4 N., R. 4 E.,

Sec. 1, lots 4, 6, 8, and 10 thru 14, and S½;

Sec. 2, lots 4, 6, 8, and 10 thru 14, and S½;

Sec. 3, lots 7 thru 10 and S½;

Sec. 4, lots 7 thru 10 and S½;

Sec. 5, lots 7 thru 10 and S½;

Sec. 6, lots 8 thru 15 and SE¼;

Secs. 7 thru 12, 14, and 15;

Sec. 16, lots 1 thru 4;

Sec. 17;

Sec. 18, lots 3 thru 6 and NE¼;

Sec. 20, lots 1 thru 8;

Secs. 21 thru 24;

Sec. 25, N½;

Secs. 26 and 27;

Sec. 28, lots 1 thru 8.

T. 4 N., R. 5 E.,

Sec. 2, lots 3, 4, 5, 8, and 9, SW¼NW¼, SW¼, and S½SE¼;

Secs. 3, 4, and 5;

Sec. 6, lots 1, 2, 5 thru 8, and 11, S½NE¼, SE¼NW¼, E½SW¼, and SE¼;

Sec. 7, lots 3 thru 7 and 9, E½SW¼, and E½;

Secs. 8 and 9;

Sec. 10 unsurveyed;

Sec. 11;

Sec. 12, lots 3, 4, 8, 9, and 10, SW¼NE¼, W½NW¼, SE¼NW¼, SW¼, and W½SE¼;

Secs. 13, 14, and 15 all unsurveyed;

Sec. 16;

Secs. 17 and 20 thru 29 all unsurveyed.

T. 5 N., R. 5 E.,

Sec. 31, lots 7 and 8;

Sec. 32, lots 3 thru 6, SE¼SW¼, and S½SE¼;

Sec. 34, lots 3, 4, and 5, and SW¼SW¼.

The area described contains 62,256 acres.

End of Land Description

The BLM will post the closure notice and map of the closure area at the main entry points into the Johnson Valley Off Highway Vehicle Recreation Area, at the California Desert District Office, at the Barstow Field Office, and on the BLM Web site: www.blm.gov/california/king-of-the-hammers.

Exceptions: Closure restrictions do not apply to medical and rescue personnel in the performance of their official duties; official United States military and Federal, State, and local law enforcement; Federal, State and local officers and employees in the performance of their official duties; King of the Hammers event officials, race participants and registered spectators; and vendors with a valid BLM Special Recreation Permit.

Enforcement: Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of California law.

Authority: 43 CFR 8360.0-7 and 8364.1.

Beth Ransel,
District Manager, California Desert District.

[FR Doc. 2016-31883 Filed 1-3-17; 8:45 am]

BILLING CODE 4310-40-P